DEPARTMENT OF LABOR

Employment and Training Administration

[TA-W-74,548]

Propex Operating Company, LLC, Including On-Site Leased Workers From Ambassador Personnel, the Pollard Agency and PFMI, Bainbridge, Georgia; Amended Certification Regarding Eligibility To Apply for Worker Adjustment Assistance

In accordance with Section 223 of the Trade Act of 1974, as amended (“Act”), 19 U.S.C. 2273, the Department of Labor issued a Certification of Eligibility to Apply for Worker Adjustment Assistance on September 10, 2010, applicable to workers of Propex Operating Company, LLC, including on-site leased workers from Ambassador Personnel, Bainbridge, Georgia. The notice was published in the Federal Register on September 23, 2010 (75 FR 57982).

At the request of a company official, the Department reviewed the certification for workers of the subject firm. The workers are engaged in activities related to the production of spun yarn.

The company reports that workers leased from The Pollard Agency and PFMI were employed on-site at the Bainbridge, Georgia location of Propex Operating Company, LLC. The Department has determined that these workers were sufficiently under the control of the subject firm to be considered leased workers.

Based on these findings, the Department is amending this certification to include workers leased from The Pollard Agency and PFMI working on-site at the Bainbridge, Georgia location of Propex Operating Company, LLC.

The amended notice applicable to TA-W-74,548 is hereby issued as follows:

All workers of Propex Operating Company, LLC, including on-site leased workers from Ambassador Personnel, The Pollard Agency and PFMI, Bainbridge, Georgia, who became totally or partially separated from employment on or after August 18, 2009, through September 10, 2012, and all workers in the group threatened with total or partial separation from employment on the date of certification through two years from the date of certification, are eligible to apply for adjustment assistance under Chapter 2 of Title II of the Trade Act of 1974, as amended.

Signed at Washington, DC this 1st day of October 2010.
Elliott S. Kushner,
Certifying Officer, Division of Trade Adjustment Assistance.

[FR Doc. 2010-26018 Filed 10-14-10; 8:45 am]

BILLING CODE 4510-FN-P